DEPARTMENT OF COMMERCE

International Trade Administration

[A-201-844]

Steel Concrete Reinforcing Bar From Mexico: Notice of Court Decision Not in Harmony With the Results of Antidumping Administrative Review; Notice of Amended Final Results

AGENCY: Enforcement and Compliance, International Trade Administration, Department of Commerce.

SUMMARY: On February 28, 2025, the U.S. Court of International Trade (CIT) issued its final judgment in Grupo Acerero S.A. de C.V., Grupo Simec S.A.B. de C.V. v. United States, Consol. Court No. 22-00202, sustaining the U.S. Department of Commerce's (Commerce) final remand results pertaining to the administrative review of the antidumping duty (AD) order on steel concrete reinforcing bar (rebar) from Mexico covering the period November 1, 2019, through October 31, 2020. Commerce is notifying the public that the CIT's final judgment is not in harmony with Commerce's final results of the administrative review, and that Commerce is amending the final results with respect to the dumping margin assigned to Grupo Simec,¹ Grupo Acerero S.A. de C.V. (Grupo Acerero), and Sidertul S.A. de C.V. (Sidertul).

¹ Commerce has previously collapsed the following entities into a single entity, collectively, Grupo Simec: Grupo Simec S.A.B. de C.V. (Simec, as in individual entity); Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V. (Sigosa); Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V. See, e.g., Steel Concrete Reinforcing Bar from Mexico: Final Results of Antidumping Duty Administrative Review and Final Determination of No Shipments; 2018-2019, 86 FR 50527, 50528 (September 9, 2021).

DATES: Applicable March 10, 2025.

FOR FURTHER INFORMATION CONTACT: Charles Doss, AD/CVD Operations, Office III, Enforcement and Compliance, International Trade Administration, U.S. Department of Commerce, 1401 Constitution Avenue NW, Washington, DC 20230; telephone: (202) 482-4474.

SUPPLEMENTARY INFORMATION:

Background

On June 8, 2022, Commerce published its Final Results in the 2019-2020 AD administrative review of rebar from Mexico. Commerce found that the application of adverse facts available (AFA), pursuant to sections 776(a) and (b) of the Tariff Act of 1930, as amended (the Act), was warranted in determining Grupo Simec's dumping margin and assigned a dumping margin of 66.70 percent.² Additionally, Commerce assigned the companies not selected for individual examination, Grupo Acerero and Sidertul, a dumping margin equal to the simple average of the dumping margins for Deacero S.A.P.I. de C.V., the other mandatory respondent, and Grupo Simec, consistent with the guidance in section 735(c)(5)(B) of the Act.³

² See Steel Concrete Reinforcing Bar from Mexico: Final Results of Antidumping Duty Administrative Review; 2019-2020, 87 FR 34848 (June 8, 2022) (Final Results), and accompanying Issues and Decision Memorandum.

³ Id.

Grupo Simec appealed Commerce's Final Results. On April 25, 2024, the CIT remanded the Final Results to Commerce to: (1) reopen the record of the administrative review to accept Grupo Simec's October 18, 2021, filing, and to request other information as needed; (2) conduct a new analysis to determine if the application of AFA is warranted; and (3) re-analyze the non-selected company rate and make any needed adjustments.⁴

⁴ See Grupo Acerero S.A. de C.V., Grupo Simec S.A.B. de C.V. v. United States, Consol. Court No. 22-00202, Slip Op. 24-52 (CIT April 25, 2024) at 36-37.

In its final remand redetermination, issued on November 21, 2024, Commerce calculated a weighted-average dumping margin of 0.00 percent for Grupo Simec.⁵ In addition, because of the change in Grupo Simec's calculated margin, the non-selected companies' rate also changed. As a result, Grupo Acerero and Sidertul are each assigned a weighted-average dumping margin of 0.00 percent in accordance with section 735(c)(5)(B) of the Act.⁶ On February 28, 2025, the CIT sustained Commerce's final redetermination.⁷

⁵ See Final Results of Redetermination Pursuant to Court Remand, Grupo Simec v. United States, Consol. Court No. 22-00202, Slip Op. 24-52, dated November 21, 2024, at 27-28.

⁶ Id.

⁷ See Grupo Acerero S.A. de C.V., Grupo Simec S.A.B. de C.V. v. United States, Consol. Court No. 22-00202, Slip Op. 25-21 (CIT February 28, 2025).

Timken Notice

In its decision in Timken,⁸ as clarified by Diamond Sawblades,⁹ the U.S. Court of Appeals for the Federal Circuit held that, pursuant to sections 516A(c) and (e) of the Act, Commerce must publish a notice of court decision that is not “in harmony” with a Commerce determination and must suspend liquidation of entries pending a “conclusive” court decision. The CIT's February 28, 2025, judgment constitutes a final decision of the CIT that is not in harmony with Commerce's Final Results. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Results

Because there is now a final court judgment, Commerce is amending its Final Results with respect to Grupo Simec, Grupo Acerero, and Sidertul as follows:

Producer/exporter | Estimated weighted-average dumping margin (percent)
Grupo Simec (Grupo Simec S.A.B. de C.V., Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V.) | 0.00
Grupo Acerero S.A. de C.V | 0.00
Sidertul S.A. de C.V | 0.00

Cash Deposit Requirements

Because Grupo Simec, Grupo Acerero, and Sidertul each have a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that: were produced and/or exported by Grupo Simec,¹⁰ produced and exported by Grupo Acerero, produced and/or exported by Sidertul, and were entered, or withdrawn from warehouse, for consumption during the period November 1, 2019 through October 31, 2020. These entries will remain enjoined pursuant to the terms of the injunction during the pendency of any appeals process.

¹⁰ As discussed above, Commerce has previously collapsed multiple entities as Grupo Simec. The Grupo Simec entries enjoined include those produced and/or exported by Grupo Simec S.A.B. de C.V.; Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderurgicos Noroeste, S.A. de C.V.; Siderurgica del Occidente y Pacifico S.A. de C.V.; Simec International 6 S.A. de C.V.; Simec International, S.A. de C.V.; Simec International 7 S.A. de C.V.; and Simec International 9 S.A. de C.V.

In the event the CIT's ruling is not appealed, or, if appealed, upheld by a final and conclusive court decision, Commerce intends to instruct CBP to assess antidumping duties on unliquidated entries of subject merchandise produced and/or exported by Grupo Simec, produced and exported by Grupo Acerero, and produced and/or exported by Sidertul, in accordance with 19 CFR 351.212(b). We will instruct CBP to assess antidumping duties on all appropriate entries covered by this review when the importer-specific ad valorem assessment rate is not zero or de minimis. Where an import-specific ad valorem assessment rate is zero or de minimis,¹¹ we will instruct CBP to liquidate the appropriate entries without regard to antidumping duties.

¹¹ See 19 CFR 351.106(c)(2).

Notification to Interested Parties

This notice is issued and published in accordance with sections 516A(c) and (e) and 777(i)(1) of the Act.

Dated: March 10, 2025.
Christopher Abbott,
Deputy Assistant Secretary for Policy and Negotiations, performing the non-exclusive functions and duties of the Assistant Secretary for Enforcement and Compliance.

[FR Doc. 2025-04092 Filed 3-13-25; 8:45 am]

BILLING CODE 3510-DS-P